DEPARTMENT OF ENERGY

Agency Information Collection Extension

AGENCY: U.S. Department of Energy.

ACTION: Submission for Office of Management and Budget (OMB) review; comment request.

SUMMARY: The Department of Energy (DOE) has submitted an information collection request to the OMB for extension under the provisions of the Paperwork Reduction Act of 1995. The information collection requests a three-year extension of its collection, titled Certification of Vaccination—DOE Onsite Support Service Contractor Employees,

OMB Control Number 1910-5194. The proposed collection will collect vaccination status information from DOE Onsite Support Service Contractor Employees. This information is being collected and maintained in order to promote the safety of Federal buildings, the Federal workforce, and others on site at agency facilities consistent with the COVID-19 Workplace Safety: Agency Model Safety Principles established by the Safer Federal Workforce Task Force and guidance from the Centers for Disease Control and Prevention and the Occupational Safety and Health Administration. Specifically, this information is being used by DOE staff charged with implementing and enforcing workplace safety protocols.

DATES: Comments regarding this collection must be received on or before July 21, 2022. If you anticipate that you will be submitting comments but find it difficult to do so within the period allowed by this notice, please advise the OMB Desk Officer of your intention to make a submission as soon as possible. The Desk Officer may be telephoned at 202-881-8585.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: John Harris, (202) 287-1471, John.Harris@hq.doe.gov.

SUPPLEMENTARY INFORMATION:

This information collection request contains:

(1) OMB No.: 1910-5194;

(2) Information Collection Request Title: Certification of Vaccination—DOE Onsite Support Service Contractor Employees;

(3) Type of Request: Extension;

(4) Purpose: This information is being collected, and maintained in order to promote the safety of Federal buildings, the Federal workforce, and others on site at agency facilities consistent with the COVID-19 Workplace Safety: Agency Model Safety Principles established by the Safer Federal Workforce Task Force, and guidance from the Centers for Disease Control and Prevention, and the Occupational Safety and Health Administration. Specifically, this information will be used by DOE staff charged with implementing and enforcing workplace safety protocols.

(5) Annual Estimated Number of Respondents: 15,000;

(6) Annual Estimated Number of Total Responses: 15,000;

(7) Annual Estimated Number of Burden Hours: 2,505;

(8) Annual Estimated Reporting and Recordkeeping Cost Burden: $232,057.

Statutory Authority: Executive Order 13991, Protecting the Federal Workforce and Requiring Mask-Wearing (Jan. 20, 2021); Occupational Safety and Health Program for Federal Employees (Feb. 26, 1980); 5 U.S.C. chapters 11, and 79.; the COVID-19 Workplace Safety: Agency Model Safety Principles established by the Safer Federal Workforce Task Force, and guidance from Centers for Disease Control and Prevention, and the Occupational Safety and Health Administration.

Signing Authority

This document of the Department of Energy was signed on June 14, 2022, by John R. Bashista, Director, Office of Acquisition Management and Senior Procurement Executive, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on June 15, 2022.
Treena V. Garrett,
Federal Register Liaison Officer, U.S. Department of Energy.

[FR Doc. 2022-13194 Filed 6-17-22; 8:45 am]

BILLING CODE 6450-01-P